DEPARTMENT OF AGRICULTURE

Cooperative State Research, Education, and Extension Service

7 CFR Part 3411

RIN 0524-AA32

National Research Initiative Competitive Grants Program—Revisions to Administrative Provisions

AGENCY: Cooperative State Research, Education, and Extension Service, USDA.

ACTION: Proposed rule.

SUMMARY: The Cooperative State Research, Education, and Extension Service (CSREES) proposes to update and make technical corrections to the administrative provisions for the National Research Initiative Competitive Grants Program (NRICGP). In addition, CSREES proposes substantive revisions to 7 CFR 3411.3(d), the “Eligibility requirements” for NRICGP Postdoctoral Fellowships, New Investigator Awards, and Strengthening Awards, and to 7 CFR 3411.4(c)(8), Agency instructions to applicants preparing project budgets for NRICGP conference grants and postdoctoral fellowships. CSREES anticipates the proposed changes to the eligibility requirements would increase the impact of the Agricultural Research Enhancement Awards, while the proposed changes to the budget instructions would facilitate additional conference and postdoctoral fellowship awards.

DATES: The Agency must receive comments on or before August 7, 2006.

ADDRESSES: Comments should be sent to Erin Daly; United States Department of Agriculture; Cooperative State Research, Education, and Extension Service, STOP 2299, 1400 Independence Ave., SW., Washington, DC 20250-2299. Comments may also be sent via electronic mail to edaly@csrees.usda.gov.

FOR FURTHER INFORMATION CONTACT: Gail McLean at (202) 401-6060 or via electronic mail at gmclean@csrees.usda.gov.

SUPPLEMENTARY INFORMATION:

Overview

The Cooperative State Research, Education, and Extension Service (CSREES) proposes revisions to the administrative provisions for the National Research Initiative Competitive Grants Program (NRICGP), which was authorized in section 2(b) of the Act of August 4, 1965, as amended by section 1615 of the Food, Agriculture, Conservation, and Trade Act of 1990 (FACT Act), (7 U.S.C. 450i(b)). Some of the revisions are mere technical corrections, including updates to the Agency's name. Other revisions reflect the Agency's developing capabilities to exchange proposal and grant data electronically. Finally, CSREES proposes substantive revisions to the eligibility requirements for Agricultural Research Enhancement Awards (7 CFR 3411.3(d)) and the Agency's instructions to applicants preparing project budgets for NRICGP conference grants and postdoctoral fellowships (7 CFR 3411.4(c)(8)).

The Agricultural Research Enhancement Awards are intended to help institutions develop competitive research programs and to attract scientists to research in agriculture, food, and environmental sciences. To increase the impact of the Agricultural Research Enhancement Awards, CSREES proposes changing the eligibility requirements for Postdoctoral Fellowships, New Investigator Awards, and Strengthening Awards. Anticipated impacts would include: (1) For Postdoctoral Fellowships, improved funding continuity and potentially more postdoctoral scientists entering into an agricultural research career; (2) for New Investigator Awards, improved project design and increased probability of a successful agricultural research program; and (3) for Strengthening Awards, improved research project continuity and more incentive for researchers to stay at USDA-Experimental Program for Stimulating Competitive Research (EPSCoR) or small/mid-sized institutions. The proposed revisions to Agency instructions regarding the preparation of project budgets apply narrowly and should optimize the use of NRICGP funds for scientific meetings and for postdoctoral researchers.

Postdoctoral Fellowships

Current provisions indicate a postdoctoral fellowship applicant should not have received a doctoral degree before January 1 of the fiscal year three years prior to the submission of the proposal and not later than June 15 of the fiscal year during which the proposal is submitted (7 CFR 3411.3(d)(1)(i)). In the past, NRICGP proposal submission dates were grouped together and occurred within an approximate range of three to four months. As a result, applicants had similar amounts of time from the date they submitted their proposals until they were notified of awards. This was important because applicants used the time to arrange for postdoctoral positions and ensure continuity of funding for their postdoctoral research.

Now, however, NRICGP proposal submission dates are spread throughout the year. The current provisions put at a disadvantage postdoctoral fellowship applicants to NRICGP programs with proposal submission dates that are later in the fiscal year than the doctoral degree cutoff date of June 15. In order to ensure the availability of their awards, applicants to these programs may wait a year between receiving their doctoral degrees and applying for the postdoctoral fellowships. The gap in funding can result in postdoctoral researchers leaving agricultural research because they cannot find a laboratory with sufficient funding to support them during this interim.

CSREES proposes revising the provisions for NRICGP postdoctoral fellowships to base cutoff dates for receipt of doctoral degrees on proposal due dates for specific NRICGP programs. This change would add equity to the process and allow applicants sufficient time to make arrangements for financial support of their postdoctoral research prior to graduation. In doing so, it should further the engagement of the best and brightest young scientists in agricultural research.

New Investigator Awards

The current provisions require that, in addition to the Project Director, all co-Project Directors must meet NRICGP New Investigator Award eligibility requirements (7 CFR 3411.3(d)(2)). When evaluating the scientific merit of a proposal, reviewers frequently suggest that New Investigators work with established investigators. Established investigators can provide valuable expertise on scientific subjects and experimental methods that New Investigators need for successful research projects. The interaction between New Investigators and established investigators can be more than simple collaboration and require sharing of funds and significant interaction. The current eligibility requirements for New Investigator Awards inhibit, if not prevent, these close relationships. CSREES proposes revising the eligibility requirements for New Investigator Awards so that they apply to Project Directors only. As the Project Director, the New Investigator would maintain the primary responsibility for the research and the funding.

Currently, applicants are ineligible for New Investigator Awards if they have received competitively-awarded Federal research funds beyond the level of pre-or postdoctoral research awards (7 CFR 3411.3(d)(2)). As a result, CSREES is not able to make New Investigator Awards to former recipients of NRICGP seed grants. NRICGP seed grants are relatively small awards that enable investigators to collect preliminary data they can use to prepare standard research grant applications. Seed grant eligibility is limited to faculty with appointments at (1) small and mid-sized degree-granting institutions that are not in the top 100 most successful institutions; and (2) degree-granting institutions eligible for USDA-EPSCoR funding. CSREES proposes revising the NRICGP New Investigator Award provisions so that former recipients of NRICGP seed grants are eligible to apply for these funds. By allowing investigators who received seed grants to remain eligible for New Investigator Awards, CSREES hopes to increase the chances that beginning scientists will achieve funding and continuation of agricultural research projects.

Strengthening Awards

According to the eligibility requirements for Research Career Enhancement Awards, Seed Grants, and Strengthening Standard Research Project Awards, no investigators on the Proposal Cover Page may have received a USDA NRICGP competitive research grant within the last 5 years (7 CFR 3411.3(d)(3)(ii)(A)). CSREES proposes removing this restriction so that investigators from eligible institutions can apply for these types of Strengthening Awards regardless of having received NRICGP awards in the past. The Agency believes this will increase the likelihood that investigators at institutions in EPSCoR states, and those at institutions with small to mid-sized enrollment, will have the funding stability necessary for successful agricultural research programs. Often researchers from these institutions have difficulty renewing strengthening awards. Although their projects have important scientific merit, they tend to be limited in size and scope due to, for example, teaching commitments, equipment access, and smaller numbers of students and postdoctoral researchers. Thus, these proposals do not compete well against projects from larger research institutions that have more resources and personnel. This change will improve funding continuity and provide incentives for established researchers to stay at EPSCoR or small/mid-sized institutions. In doing so, it will strengthen the institutions and the future of agricultural research through increased opportunities for students to participate in active, successful agricultural research projects.

The current provisions require that, in addition to the Project Director, all co-Project Directors must meet NRICGP Strengthening Award eligibility requirements (7 CFR 3411.3(d)(3)(ii)(B)). As with a similar restriction placed on New Investigators, this requirement unnecessarily hampers close relationships between investigators who can provide expertise needed to successfully complete a project. CSREES proposes revising the eligibility requirements for these types of NRICGP Strengthening Awards so that they apply to Project Directors only.

Indirect Costs—Conference Awards and Postdoctoral Fellowships

CSREES proposes adding language to 7 CFR 3411.4(c)(8) that prohibits indirect costs for conference awards and postdoctoral fellowships. Currently, CSREES restricts conference awardees' recovery of indirect costs to 20% of total Federal funds, as provided in Section 709 of the Agriculture, Rural Development, Food and Drug Administration, and Related Agencies Appropriations Act, 2006 (Pub. L. 109-97). Conference awards support meetings that bring together scientists to identify research needs, update information, or advance an area of research. Typically, these awards are modest. They rarely exceed $10,000, but are recognized as integral to research efforts. Where grantees incur administrative costs relative to sponsoring such conferences (especially in off-site locations), the Agency believes the administrative costs are negligible.

In accordance with its fiscal year 2006 Request for Applications (RFA) for NRICGP (available at http://www.csrees.usda.gov/funding/rfas/nri_rfa.html), CSREES allows postdoctoral fellowship awardees to request an institutional allowance (not to exceed $2,400 per year) or indirect costs within the $125,000 maximum award limit. Postdoctoral fellowship applicants primarily request funds for salary support, although they are allowed to request other expenditures (e.g., supplies, travel, and publication) if they properly justify them. These awards allow postdoctoral researchers to develop independent research projects they can take with them to career-track positions. Postdoctoral fellowships play an important role in attracting and supporting beginning researchers in agricultural sciences. For postdoctoral fellowships, CSREES proposes that it continue to indicate in its annual NRICGP RFA a maximum institutional allowance, and that, in accordance with revised administrative provisions, the Agency plans to make this allowance available to awardees in lieu of indirect costs.

CSREES is soliciting public comments regarding this proposed rule and will consider and address such comments in subsequent rulemaking on this subject. Comments should be submitted as provided for in the ADDRESSES and DATES portions of this proposed rule.

Paperwork Reduction Act of 1995—Information Collection

Under the provisions of the Paperwork Reduction Act of 1995 (44 U.S.C. chapter 35), the collection of information requirements contained in this Proposed Rule have been approved (OMB Approval No. 0524-0039).

Regulatory Flexibility Act

USDA certifies that this proposed rule will not have a significant impact on a substantial number of small entities as defined in the Regulatory Flexibility Act, Public Law 96-354, as amended (5 U.S.C. 601, et seq.) because it is a Federal assistance program, not a regulatory regime, and the majority of awards will be made to colleges and universities that do not qualify as small entities.

Executive Order 12866

This rule has been reviewed under Executive Order 12866 and has been determined to be nonsignificant as it will not create a serious inconsistency or otherwise interfere with an action planned by another agency; will not materially alter the budgetary impact of entitlement, grants, user fees, or loan programs, or rights and obligations of the recipients thereof; and will not raise novel legal or policy issues arising out of legal mandates, the President's priorities, or principles set forth in this Executive Order. This rule will not have an annual effect on the economy of $100 million or more or adversely affect in a material way the economy, productivity, competition, jobs, the environment, public health, or safety, or State, local, or Tribal governments or communities.

Unfunded Mandates Reform Act

Pursuant to Title II of the Unfunded Mandates Reform Act of 1995 (Pub. L. 104-4), the Department assessed the effects of this rulemaking action on State, local, and Tribal government, and the public. This action does not compel the expenditure of $100 million or more by any State, local, or Tribal governments, or anyone in the private sector. Therefore, a statement under Section 202 of the Unfunded Mandates Reform Act of 1995 is not required.

Small Business Regulatory Enforcement Fairness Act

This rule is not a major rule under 5 U.S.C. 804(2), the Small Business Regulatory Enforcement Fairness Act. This rule:

(1) Does not have an annual effect on the economy of $100 million or more;

(2) Will not cause a major increase in costs or prices for consumers, individual industries, Federal, State, or local government agencies, or geographic regions; and

(3) Does not have significant adverse effects on competition, employment, investment, productivity, innovation, or the ability of U.S.-based enterprises to compete with foreign-based enterprises.

Executive Order 12988

This rule has been reviewed under Executive Order 12988, Civil Justice Reform. In accordance with the Executive Order: (1) All State and local laws and regulations that are in conflict with this rule will be preempted; (2) no retroactive effect will be given to this rule; (3) no administrative proceedings are required before bringing any judicial action regarding this rule.

Executive Order 13132

In accordance with Executive Order 13132, this rulemaking does not have sufficient federalism implications to warrant the preparation of a Federalism Assessment. The policies contained in this rule do not have any substantial direct effect on policymaking discretion of the States, on the relationship between the national government and the States, or on the distribution of power and responsibilities among the various levels of government. Nor does this rule impose substantial direct compliance costs on State and local governments.

Executive Order 12372

For the reasons set forth in the Final Rule Related Notice for 7 CFR part 3015, subpart V (48 FR 29115, June 24, 1983), this program is excluded from the scope of the Executive Order 12372 which requires intergovernmental consultation with State and local officials. This program does not directly affect State and local governments.

Executive Order 13175

The policies contained in this rulemaking do not have tribal implications and thus no further action is required under Executive Order 13175.

List of Subjects in 7 CFR Part 3411

Agricultural research, Grant programs—agriculture, Reporting and recordkeeping requirements.

For the reasons stated in the preamble, the Cooperative State Research, Education, and Extension Service proposes to amend 7 CFR part 3411 to read as set forth below:

PART 3411—NATIONAL RESEARCH INITIATIVE COMPETITIVE GRANTS PROGRAM

1. The authority citation for part 3411 continues to read as follows:

Authority: Sec. 2(i) of the Act of August 4, 1965, as amended (7 U.S.C. 450i(i)).

Subpart A—General

2. Revise paragraph (a) of § 3411.1 to read as follows:

§ 3411.1 Applicability of regulations.

(a) The regulations of this part apply to competitive research grants awarded under the authority of section 2(b) of the Act of August 4, 1965, as amended by section 1615 of the Food, Agriculture, Conservation, and Trade Act of 1990 (FACT Act), (7 U.S.C. 450i(b)), for the support of research to further the programs of the Department of Agriculture and to improve research capabilities in the agricultural, food, and environmental sciences in the following categories: Single investigators or coinvestigators in the same disciplines; teams of researchers from different disciplines; multidisciplinary teams for long-term applied research problems; multidisciplinary teams whose research has the eventual goal of technology transfer and education capacity through the acquisition of special research equipment and improvement of teaching and education, including fellowships; single investigators or coinvestigators who are beginning their research careers; and, faculty of small and mid-sized institutions not previously successful in obtaining competitive grants under this subsection. In accordance with Public Law 104-127, within the Department of Agriculture, the Secretary established the National Agricultural Research, Extension, Education, and Economics Advisory Board (NAREEEAB) to provide overall guidance to the Research, Education and Economics mission area on policies and priorities related to programs, including NRICGP. In addition to the stakeholder listening sessions NAREEEAB sponsors, CSREES receives stakeholder input on policies and priorities related to NRICGP from multiple sources including scientific societies; the National Research Council of the National Academy of Sciences; producers, processors, industry; the land-grant university system; non-governmental organizations; and other federal agencies; and through international coordination. The Administrator of CSREES shall determine and announce, through publication of a notice on the CSREES Web site (http://www.csrees.usda.gov), the government-wide funding opportunities Web site (http://www.grants.gov), or in such publications as the Federal Register, professional trade journals, agency or program handbooks, the Catalog of Federal Domestic Assistance, or any other appropriate means, high-priority research areas and categories for which proposals will be solicited and the extent that funds are made available therefore.

* * * * *

3. Revise paragraphs (a) and (c) of § 3411.2 to read as follows:

§ 3411.2 Definitions.

* * * * *

(a) Administrator means the Administrator of the Cooperative State Research, Education, and Extension Service (CSREES) and any other officer or employee of the Department of Agriculture to whom the authority involved may be delegated.

* * * * *

(c) Project Director means a single individual who is responsible for the scientific and technical direction of the project, as designated by the grantee in the grant application and approved by the Administrator.

* * * * *

4. Amend § 3411.3 by revising paragraphs (a), (d) introductory text, (d)(1) introductory text, (d)(1)(i), (d)(2), and (d)(3)(ii) to read as follows:

§ 3411.3 Eligibility requirements.

* * * * *

(a) For research projects, except where otherwise prohibited by law, State agricultural experiment stations, all colleges and universities, other research institutions and organizations, Federal agencies, private organizations or corporations, and individuals shall be eligible to apply for and receive a competitive grant under this part, provided that the applicant qualifies as a responsible grantee under the criteria set forth in paragraph (b) of this section.

* * * * *

(d) Agricultural Research Enhancement Awards. In addition to paragraphs (a), (b), and (c) of this section, the following eligibility requirements apply to Agricultural Research Enhancement Awards for research projects (Program reserves the right to specify funding limitations and administrative requirements each year in the program solicitation):

(1) Postdoctoral Fellowships. In accordance with section 2(b)(3)(D) of the Act of August 4, 1965, as amended, individuals who recently have received or will soon receive their doctoral degree may submit proposals for postdoctoral fellowships. The following eligibility requirements apply:

(i) The doctoral degree of the applicant must be received not earlier than January 1 of the fiscal year three years prior to the submission of the proposal and not later than nine months after the proposal due date;

* * * * *

(2) New Investigator Awards. Pursuant to section 2(b)(3)(E) of the Act of August 4, 1965, as amended, Project Directors who are beginning their research careers, do not have an extensive research publication record, and have less than 5 years of post-graduate, career-track research experience, may submit proposals as new investigators. Applicants may not have received competitively-awarded Federal research funds beyond the level of pre- or postdoctoral research awards or USDA NRICGP seed grants.

(3) Strengthening Awards.

* * * * *

(ii) Research Career Enhancement Awards, Seed Grants, and Strengthening Standard Research Project Awards. The following eligibility requirements apply to Research Career Enhancement Awards, Seed Grants, and Strengthening Standard Research Project Awards:

(A) The Project Director listed on the Application For Funding must be from a small or mid-sized institution that is not among the top 100 universities and colleges for receiving Federal funds for science and engineering research as specified in the annual program solicitation or must be from an institution located in a USDA-EPSCoR state.

(B) Every investigator listed on the Application For Funding must have an appointment at a degree granting institution.

5. Amend § 3411.4 by revising paragraphs (a) introductory text, (a)(4), (a)(5), (c)(3) introductory text, (c)(7) introductory text, (c)(8), (c)(11), and (c)(13) to read as follows:

§ 3411.4 How to apply for a grant.

(a) Program solicitations will be prepared and announced through publication on the government-wide funding opportunities Web site (http://www.grants.gov) as early as practicable each fiscal year. It will contain information sufficient to enable all eligible applicants to prepare competitive grant proposals and will be as complete as possible with respect to:

* * * * *

(4) Deadline dates for receipt of proposal packages;

(5) Submission addresses;

* * * * *

(b) * * *

(c) Format for grant proposals.

* * * * *

(3) Project Description. The specific aims of the project must be included in all proposals. The text of the project description may not exceed 18 single- or double-spaced pages and must contain the following components:

* * * * *

(7) Personnel support. To assist peer reviewers in assessing the competence and experience of the proposed project staff, all personnel who will be involved in the proposed project must be identified clearly. For each Project Director involved, and for all senior associates and other professional personnel who expect to work on the project, whether or not funds are sought for their support, the following should be included:

* * * * *

(8) Budget. A detailed budget is required for each year of requested support. In addition, a summary budget is required detailing requested support for the overall project period. A copy of the form which must be used for this purpose, along with instructions for completion, is included in the NRICGP Application Kit identified under § 3411.4(b) of the part and may be reproduced as needed by applicants. Funds may be requested under any of the categories listed, provided that the item or service for which support is requested may be identified as necessary for successful conduct of the proposed project, is allowable under applicable Federal cost principles, and is not prohibited under any applicable Federal statute or regulation. It should be noted, for example, that section 2(b)(7) of the Act of August 4, 1965, as amended, prohibits the use of funds under this program for the renovation or refurbishment of research spaces, purchases or installation of fixed equipment in such spaces, or for the planning, repair, rehabilitation, acquisition, or construction of a building or facility. Also, section 2(b)(8) of the Act of August 4, 1965, as amended, requires that all grants, except equipment grants authorized by section 2(b)(3)(D) of the same Act, awarded under this part, shall be used without regard to matching funds or cost sharing. Equipment grants may not exceed 50 percent of the cost of the equipment to be acquired. Equipment grant funds also may not be used for installation, maintenance, warranty, or insurance expenses. Indirect costs are not permitted on equipment grants, conference grants, or postdoctoral fellowships. According to the limit included in the annual program solicitation, a postdoctoral fellowship applicant may request and receive a reasonable institutional allowance.

* * * * *

(11) Additions to project description. Each project description is expected by the Administrator, the members of peer review groups, and the relevant program staff to be complete. However, if the inclusions of additional information is necessary to ensure the equitable evaluation of the proposal (e.g., photographs which do not reproduce well, reprints, and other pertinent materials which are deemed to be unsuitable for inclusion in the text of the proposal), the number of copies submitted should match the number of copies of the application requested in the program solicitation. Each set of such materials must be identified with the name of the submitting organization, and the name(s) of the Project Director(s). Information may not be appended to a proposal to circumvent page limitations prescribed for the project description. Extraneous materials will not be used during the peer review process.

* * * * *

(13) National Environmental Policy Act. As outlined in CSREES's implementing regulations of the National Environmental Policy Act of 1969 (NEPA) at 7 CFR part 3407, environmental data or documentation for the proposed project is to be provided to CSREES in order to assist CSREES in carrying out its responsibilities under NEPA. These responsibilities include determining whether the project requires an Environmental Assessment or an Environmental Impact Statement or whether it can be excluded from this requirement on the basis of several categorical exclusions listed in 7 CFR p art 3407. In this regard, the applicant should review the categories defined for exclusion to ascertain whether the proposed project may fall within one or more of the exclusions, and should indicate if it does so on the National Environmental Policy Act Exclusions Form provided in the NRICGP Application Kit.

* * * * *

6. Revise paragraph (a) of § 3411.5 to read as follows:

§ 3411.5 Evaluation and disposition of applications.

(a) Evaluation. All proposals received from eligible applicants and received in accordance with deadlines established in the annual program solicitation shall be evaluated by the Administrator through such officers, employees, and others as the Administrator determines are uniquely qualified in the areas represented by particular projects. To assist in equitably and objectively evaluating proposals and to obtain the best possible balance of viewpoints, the Administrator shall solicit the advice of peer scientists, ad hoc reviewers, and/or others who are recognized specialists in the areas covered by the applications received and whose general roles are defined in §§ 3411.2(j) and 3411.2(k). Specific evaluations will be based upon the criteria established in § 3411.15, unless CSREES determines that different criteria are necessary for the proper evaluation of proposals in one or more specific program areas, or for specific types of projects to be supported, and announces such criteria and their relative importance in the annual program solicitation. The overriding purpose of these evaluations is to provide information upon which the Administrator may make informed judgments in selecting proposals for ultimate support. Incomplete, unclear, or poorly organized applications will work to the detriment of applicants during the peer evaluation process. To ensure a comprehensive evaluation, all applications should be written with the care and thoroughness accorded papers for publication.

* * * * *

7. Amend § 3411.6 as follows:

A. Revise paragraph (a), paragraph (b) heading, (b)(1)(iii), (b)(1)(iv), (d) introductory text, (d)(2), and (f).

B. Remove and reserve paragraph (b)(2).

§ 3411.6 Grant awards.

(a) General. Within the limit of funds available for such purpose, the awarding official shall make grants to those responsible, eligible applicants whose proposals are judged most meritorious in the announced program areas under the evaluation criteria and procedures set forth in this part. All funds granted under this part shall be expended solely for the purpose for which the funds are granted in accordance with the approved application and budget, the regulations of this part, the terms and conditions of the award, the applicable Federal cost principles, and the Department's Federal assistance regulations.

(b) Grant award document.

(1) * * *

(iii) Name(s) and address(es) of Project Director(s) chosen to direct and control approved activities;

(iv) Identifying grant and proposal numbers assigned by the Department;

* * * * *

(d) Funding mechanisms. The two mechanisms by which grants shall be awarded are as follows:

* * * * *

(2) Continuation grant. This is a funding mechanism whereby the Department agrees to support a specified level of effort for a predetermined period of time with a statement of intention to provide additional support at a future date, provided that performance has been satisfactory, appropriations are available for this purpose, and continued support would be in the best interests of the Federal government and the public. This kind of mechanism normally will be awarded for an initial one-year period, and any subsequent continuation project grants will also be awarded in one-year increments. The award of a continuation project grant to fund an initial or succeeding budget period does not constitute an obligation to fund any subsequent budget period. Unless prescribed otherwise by CSREES, a grantee must submit a separate application for continued support for each subsequent fiscal year. Decisions regarding continued support and the actual funding levels of such support in future years usually will be made administratively after consideration of such factors as the grantee's progress and management practices and the availability of funds. Since initial peer reviews are based upon the full term and scope of the original application, additional evaluations of this type generally are not required prior to successive years' support. However, in unusual cases (e.g., when the nature of the project or key personnel change or when the amount of future support requested substantially exceeds the grant application originally reviewed and approved), additional reviews may be required prior to approving continued funding.

* * * * *

(f) Current Research Information Service (CRIS). For each project funded, instructions will be sent to the grantee for the completion of CRIS Forms AD-416, “Research Work Unit/Project Description—Research Resume” and AD-417, “Research Work Unit/Project Description—Classification of Research.” Grant funds will not be released until the completed forms are received electronically via CRIS.

8. Revise paragraph (b)(1) of § 3411.7 as follows:

§ 3411.7 Use of funds; changes.

* * * * *

(b) Change in project plans. (1) The permissible changes by the grantee, Project Director(s), or other key project personnel in the approved grant shall be limited to changes in methodology, techniques, or other aspects of the project to expedite achievement of the project's approved goals. If the grantee and/or the Project Director(s) is uncertain whether a particular change complies with this provision, the question must be referred to the Administrator for final determination.

* * * * *

9. In the list of statutes in § 3411.8, revise the fifth and tenth statutes listed.

§ 3411.8 Other Federal statutes and regulations that apply.

* * * * *

7 CFR part 3015—USDA Uniform Federal Assistance Regulations, implementing OMB directives (i.e., Circular Nos. A-21 and A-122) and incorporating provisions of 31 U.S.C. 6301-6308 (formerly, the Federal Grant and Cooperative Agreement Act of 1977, Pub. L. No. 95-224), as well as general policy requirements applicable to recipients of Departmental financial assistance;

* * * * *

7 CFR part 3407—CSREES procedures to implement the National Environmental Policy Act;

* * * * *

Dated: May 31, 2006.
Colien Hefferan,
Administrator, Cooperative State Research, Education, and Extension Service.

[FR Doc. E6-8704 Filed 6-5-06; 8:45 am]

BILLING CODE 3410-22-P